DEPARTMENT OF LABOR

Employment and Training Administration

[TA-W-37,914 and NAFTA-4042]

Joseph Timber Company, Joseph, OR; Dismissal of Application for Reconsideration

Pursuant to 29 CFR 90.18(C) an application for administrative reconsideration was filed with the Director of the Division of Trade Adjustment Assistance for workers at Joseph Timber Company, Joseph, Oregon. The application contained no new substantial information which would bear importantly on the Department's determination. Therefore, dismissal of the application was issued.

TA-W-37,914 & NAFTA-4042; Joseph Timber Company, Joseph, Oregon (November 2, 2000)

Signed at Washington, D.C. this 7th day of November, 2000.
Edward A. Tomchick,
Director, Division of Trade Adjustment Assistance.

[FR Doc. 00-29155 Filed 11-14-00; 8:45 am]

BILLING CODE 4510-30-M